DEPARTMENT OF DEFENSE

Department of the Air Force

[Docket ID: USAF-2012-0017]

Privacy Act of 1974; System of Records

AGENCY: Department of the Air Force, DoD.

ACTION: Notice to Alter a System of Records.

SUMMARY: The Department of the Air Force proposes to alter a system of records notice in its existing inventory of records systems subject to the Privacy Act of 1974 (5 U.S.C. 552a), as amended.

DATES: This proposed action will be effective on October 22, 2012 unless comments are received which result in a contrary determination. Comments will be accepted on or before October 19, 2012.

ADDRESSES: You may submit comments, identified by docket number and title, by any of the following methods:

• Federal Rulemaking Portal: http://www.regulations.gov.

Follow the instructions for submitting comments.

• Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information

FOR FURTHER INFORMATION CONTACT: Mr. Charles J. Shedrick, Department of the Air Force Privacy Office, Air Force Privacy Act Office, Office of Warfighting Integration and Chief Information officer, ATTN: SAF/CIO A6, 1800 Air Force Pentagon, Washington, DC 20330-1800, or by phone at (202) 404-6575.

SUPPLEMENTARY INFORMATION: The Department of the Air Force's notices for systems of records subject to the Privacy Act of 1974 (5 U.S.C. 552a), as amended, have been published in the Federal Register and are available from the address in FOR FURTHER INFORMATION CONTACT.

The proposed systems reports, as required by 5 U.S.C. 552a(r) of the Privacy Act, were submitted on August 13, 2012 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: September 14, 2012.
Aaron Siegel,
Alternate OSD Federal Register Liaison Officer, Department of Defense.

F036 AFPC P

System Name:

Separation Case Files (Officer and Airman) (May 9, 2003, 68 FR 24949).

Changes:

* * * * *

System Location:

Delete entry and replace with “National Personnel Records Center, Military Personnel Records Center, 9700 Page Avenue, St. Louis, MO 63132-5100. Air Reserve Personnel Center, 6760 East Irvington Place, Records Branch, 4450, Denver, CO 80280-4450. Air Force Personnel Center, 550 C. Street West, Suite 21, (Records Branch), Randolph AFB, TX 78150-4723.”

Categories of individuals covered by the system:

Delete entry and replace with “Air Force Active Duty Officer and enlisted personnel, retired Air Force Officer and enlisted personnel, former Air Force Officer and enlisted personnel.”

Categories of records in the system:

Delete entry and replace with “Individual's Name, Social Security Number (SSN), duty location, duty phone number, service member's voluntary separation application; or memorandum from commander initiating separation action; discharge board proceedings, finding, and recommendation if applicable; separation orders.”

Authority for maintenance of the system:

Delete entry and replace with “10 U.S.C. 8013, as amended, Department of the Air Force; Air Force Instruction (AFI) 36-3206, Administrative Discharge Procedures For Commissioned Officers; AFI 36-3207, Separating Commissioned Officers; AFI 36-3208, Administrative Separation of Airmen, Air Force; AFI 36-3202, Separation Documents, AFI 36-3204, Procedures for applying as a Conscientious Objector; and E.O. 9397 (SSN), as amended.”

Purpose(s):

Delete entry and replace with “Records collected and information contained therein are used by Secretary of the Air Force or delegated authority to determine whether officer or airman is approved or disapproved for separation in accordance with applicable statutes and governing Department of Defense and Air Force Instructions.”

Routine uses of records maintained in the system, including categories of users and the purposes of such uses:

Delete entry and replace with “In addition to those disclosures generally permitted under 5 U.S.C. 552a(b) of the Privacy Act of the 1974, these records contained therein may specifically be disclosed outside the DoD as a routine use pursuant to 5 U.S.C. 552a(b)(3) as follows:

Department of Veterans Affairs (VA) to determine eligibility for VA benefits, entitlements or medical care.

State Unemployment Compensation offices for verification of military service related information for unemployment compensation claims.

Respective local state government offices for verification of Vietnam ‘State Bonus’ eligibility.

Department of Labor for claims of civilian employees formerly in military service, verification of service-related information for unemployment compensation claims, investigations of possible violations of labor laws and for pre-employment investigations.

The DoD Blanket Routine Uses published at the beginning of the

Air Force's compilation of systems of records notices apply to this system.”

* * * * *

Storage:

Delete entry and replace with “Maintained in file folders, binders, and electronic storage media.”

Retrievability:

Delete entry and replace with “Name and/or SSN.”

Safeguards:

Delete entry and replace with “Records are maintained by agencies identified as primary locations reflected above under “System Locations”. Access is limited to individuals who request records for the performance of their official duties. Records are stored in file cabinets in buildings that are locked with controlled access entry requirements. Electronic files are only accessed by authorized personnel with secure Common Access Card.”

Retention and disposal:

Delete entry and replace with “Temporary records are maintained for 90 days from date of separation, or 90 days from date of disapproval then destroyed by tearing shredding, or burning. Master records designated as permanent, remain in military personnel records system and permanently retired with master personnel record group.”

System manager(s) and address:

Delete entry and replace with “Chief, Retirements and Separations Branch, 550 C Street West, Suite 3, Randolph Air Force Base, TX 78150-4713.”

Notification procedures:

Delete entry and replace with “Individuals seeking to determine whether this system of records contains information on themselves should address written inquiries to the Chief, Separations Branch, Air Force Personnel Center, 550 C Street West, Suite 3, Randolph Air Force Base, TX 78150-4713.

For verification purposes, individual should provide full name, SSN, and their signature. In addition, requester must provide notarized statement or unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.

Individuals may appear in person at the responsible official's office or respective repository for records for personnel in a particular category. The agency which maintains the permanent record depends on the date of separation from the Air Force and whether the service member was discharged (no remaining military service obligation) or whether service member was transferred to reserves or guard upon separation from active duty. Recommend individuals seeking information regarding location of their separation case file first contact the Chief, Separation Branch, indicated above before traveling or appearing in person to determine location of their records. Official mailing addresses are published as an appendix to the Air Force's compilation of systems of records notices.”

Record access procedures:

Delete entry and replace with “Individuals seeking to access records about themselves contained in this system should address written inquiries to the Chief, Separations Branch, Air Force Military Personnel Center, 550 C Street West, Suite 3, Randolph Air Force Base, TX 78150-4713.

For verification purposes, individual should provide full name, SSN, and signature. In addition, requester must provide notarized statement or unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.

Individuals may also complete a Standard Form 180, Request Pertaining to Military Records, to request access to separation case files on themselves. Individuals may appear in person at the responsible official's office or respective repository for records for personnel in a particular category. Agency which maintains the permanent record depends on date of separation from the Air Force and whether service member was discharged (no remaining military service obligation) or whether service member was transferred to the reserves or guard upon separation from active duty. Recommend individuals seeking information regarding access to their separation case file first contact the Chief, Separation Branch, indicated above before traveling or appearing in person to determine the location of their records. Official mailing addresses are published as an appendix to the Air Force's compilation of system of records notices.”

Contesting record procedures:

Delete entry and replace with “Requests for records or documents contained in this System of Records should be processed under the guidelines outlined in AFI 33-332, Air Force Privacy Program, and Department of Defense (DoD) 5400.7, DoD Freedom of Information Act Program; and Air Force Manual 33-332, Freedom of Information Program.”

Record source categories:

Delete entry and replace with “Documents generated by the service member, supervisor(s), and commander(s) related to separation or discharge to include separation application, memorandums, and supporting documentation.”

Exemptions claimed for the system:

None.

[FR Doc. 2012-23066 Filed 9-18-12; 8:45 am]

BILLING CODE 5001-05-P